DEPARTMENT OF COMMERCE

National Oceanic and Atmospheric Administration

15 CFR Part 922

[Docket No. 130403324-3376-01]

RIN 0648-BC94

Boundary Expansion of Thunder Bay National Marine Sanctuary

AGENCY: Office of National Marine Sanctuaries (ONMS), National Ocean Service (NOS), National Oceanic and Atmospheric Administration (NOAA), Department of Commerce (DOC).

ACTION: Proposed rule.

SUMMARY: The National Oceanic and Atmospheric Administration (NOAA) proposes to expand the boundary of Thunder Bay National Marine Sanctuary (TBNMS or sanctuary) and revise the corresponding sanctuary terms of designation. The proposed new boundary for TBNMS would increase the size of the sanctuary from 448 square miles to 4,300 square miles and would extend protection to 47 additional known historic shipwrecks of national significance. A draft environmental impact statement has been prepared for this proposed action. NOAA is soliciting public comment on the proposed rule and draft environmental impact statement.

DATES: Comments will be considered if received by August 13, 2013. Public hearings will be held at 6 p.m. in the following locations:

• Monday, July 15—Presque Isle District Library, Rogers City Location, 181 East Erie Street, Rogers City, MI 49779.

• Tuesday, July 16—Great Lakes Maritime Heritage Center, 500 W. Fletcher Street, Alpena, MI 49707.

• Wednesday, July 17—Alcona County Library, Harrisville Branch, 312 W. Main, Harrisville, MI 48740.

ADDRESSES: You may submit comments on this document, identified by NOAA-NOS-2012-0077, by any of the following methods:

• Electronic Submission: Submit all electronic public comments via the Federal e-Rulemaking Portal. Go to www.regulations.gov/#!docketDetail;D=NOAA-NOS-2012-0077, click the “Comment Now!” icon, complete the required fields, and enter or attach your comments.

• Mail: Submit written comments to Thunder Bay National Marine Sanctuary, 500 W. Fletcher, Alpena, Michigan 49707, Attn: Jeff Gray, Superintendent.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous). Attachments to electronic comments will be accepted in Microsoft Word, Excel, or Adobe PDF file formats only.

FOR FURTHER INFORMATION CONTACT: Jeff Gray, Superintendent, Thunder Bay National Marine Sanctuary at 989-356-8805 ext. 12 or jeff.gray@noaa.gov

Copies of the draft environmental impact statement and proposed rule can be downloaded or viewed on the internet at www.regulations.gov (search for docket # NOAA-NOS-2012-0077) or at http://thunderbay.noaa.gov. Copies can also be obtained by contacting the person identified under “For Further information Contact”.

SUPPLEMENTARY INFORMATION:

I. Background

A. Thunder Bay National Marine Sanctuary

Located in northwestern Lake Huron, Thunder Bay is adjacent to one of the most treacherous stretches of water within the Great Lakes system. Unpredictable weather, murky fog banks, sudden gales, and rocky shoals earned the area the name “Shipwreck Alley”. Fire, ice, collisions, and storms have claimed nearly 200 vessels in and around Thunder Bay. Today, the 448-square-mile Thunder Bay National Marine Sanctuary (TBNMS or sanctuary) protects one of America's best-preserved and nationally-significant collections of shipwrecks. To date, 45 shipwrecks have been discovered within the sanctuary. In addition to helping to protect and interpret individual sites, understanding the sanctuary in the context of a maritime cultural landscape reveals a broad historical canvas that can encompass many different perspectives to foster an interconnected understanding of the maritime past. As defined by the National Park Service, a cultural landscape is a geographic area including both cultural and natural resources, coastal environments, human communities, and related scenery that is associated with historic events, activities or persons, or exhibits other cultural or aesthetic values. The maritime cultural landscape allows Thunder Bay's maritime heritage to continue to unfold as new discoveries are made and encourages an increasingly diverse public to find shared meaning in this nationally significant place.

Although the sheer number of shipwrecks is impressive, it is the range of vessel types located in the sanctuary, their excellent state of preservation and accessibility to the public that makes the collection nationally significant. From an 1844 sidewheel steamer to a modern 500-foot-long German freighter, the shipwrecks of Thunder Bay represent a microcosm of maritime commerce and travel on the Great Lakes. Well preserved by Lake Huron's cold, fresh water, the shipwrecks and related maritime heritage sites in and around Thunder Bay are historically, archaeologically and recreationally significant. NOAA designated the area as a national marine sanctuary in 2000. The sanctuary is managed jointly by NOAA and the State of Michigan under the umbrella of the 2002 Memorandum of Agreement (December 2002).

B. Need for Action

The purpose of this proposed action would be to provide long-term protection and comprehensive management for 47 additional known historic shipwrecks of special national significance, and other maritime heritage resources (i.e. docks, cribs), located outside the sanctuary's existing boundary. The action would also provide protection for historic shipwrecks and maritime heritage resources yet to be discovered. This proposed action would be compatible with the purposes and policies of the National Marine Sanctuaries Act (NMSA; 16 U.S.C. 1431).

Beyond the sanctuary's existing boundaries are 47 additional known historic shipwrecks that are at risk from threats which include both human activities and natural processes. Human threats include looting and altering sanctuary shipwreck sites, and damaging or destroying sites by anchoring. Natural processes include the impacts of wind, waves, storms and ice, as well as the impact of invasive species such as zebra and quagga mussels that today cover most of Lake Huron's shipwrecks. These processes threaten the long term sustainability of historic shipwrecks and other maritime heritage resources. In order to ensure long-term protection, these 47 additional known historic shipwreck sites require the same level of research and resource protection afforded sites within the existing TBNMS boundary.

Although additional shipwreck sites exist outside the proposed boundary expansion area, NOAA's proposed action contains the sites whose protection would best complement from an archaeological, historical and recreational perspective, the resources in the existing sanctuary boundaries. Such maritime heritage resources require long-term protection and management to reduce threats that could impact their historical, archeological, recreational and educational value. There is a need to apply education and outreach efforts to shipwrecks beyond the sanctuary's existing boundary to promote responsible use of sanctuary resources and help reduce human impacts. The comprehensive and coordinated management that NOAA would provide includes extensive research, education, and outreach programs. This would fill important gaps in archeological knowledge and historical context of these shipwrecks, and enhance sustainable recreational and tourism opportunities.

While state laws and other applicable federal law (such as The Abandoned Shipwreck Act codified in 43 U.S.C. 2101, et seq.) intended to reduce the impact of human activities on historic shipwrecks and related maritime heritage resources have been effective, those laws only apply to abandoned property. Sanctuary regulation in the proposed expanded area would provide increased protection in the following ways: (1) The Sanctuary regulations would apply to all historic shipwrecks, not just abandoned shipwrecks; (2) The use of grappling hooks or other anchoring devices would be prohibited on underwater cultural resource sites that are marked with a mooring buoy; (3) “Hand-taking” of artifacts outside the Thunder Bay Underwater Preserve, but still within the revised Sanctuary boundary, would be prohibited; (4) Permit applications would be required to satisfy the Federal Archaeology Program guidelines for all sites located within the revised sanctuary boundary; and (5) as an additional enforcement mechanism, NOAA would still be able to assess civil penalties under the National Marine Sanctuaries Act for violation of sanctuary regulations.

C. History of Process

NOAA selected the proposed boundary after considering alternatives evaluated when the sanctuary was designated in 2000; expansion alternatives later developed by the Sanctuary Advisory Council in 2007; and considerable public input during public scoping meetings in 2012. Historical and archaeological research conducted since the sanctuary's designation was used to establish the number and condition of resources within the proposed new boundary for TBNMS, as well as the historical, archeological and recreational significance of these sites. Nearly all of the known sites within the proposed action are eligible for listing on the National Register of Historic Places.

NOAA designated the sanctuary as the nation's thirteenth national marine sanctuary in 2000 for the purpose of: “Providing long-term protection and management to the conservation, recreational, research, educational, and historical resources and qualities of the area.” Because new challenges and opportunities emerge with time, the NMSA requires periodic updating of sanctuary management plans (and regulations, if appropriate) to reevaluate site-specific goals and objectives and to develop management strategies and activities to ensure that the sanctuary best protects its resources. The original TBNMS management plan was written as part of the sanctuary designation process and published in the final environmental impact statement.¹ The designation of the sanctuary in 2000 has had a tremendously positive socioeconomic impact on community development and maritime heritage tourism in Northeast Michigan, and as a result government officials and the public are interested in how a sanctuary expansion could further contribute to enhancing recreational and tourism opportunities for those communities. Expansion of the sanctuary boundaries could bring similar positive socioeconomic impacts to a larger geographic area in Michigan. As the idea for a boundary expansion has been considered for many years, NOAA has documented considerable support for expansion. The documentary support includes letters, resolutions, Congressional testimony, and Sanctuary Advisory Council recommendations from the past five years.²

¹ http://thunderbay.noaa.gov/pdfs/thunderbayeis.pdf.

² http://thunderbay.noaa.gov/management/expansion.html.

In 2007, as part of the management plan review process, NOAA established a sanctuary advisory council boundary expansion working group to evaluate whether the boundary should be expanded to protect, manage, and interpret additional shipwrecks and other potential maritime heritage resources. The boundary expansion working group identified and considered the following study area for evaluation of boundary alternatives: a 4,110-square-mile area that extended the current sanctuary south into Alcona County, north into Presque Isle County, and east to the international border with Canada. The study area was identified based on the density of known and undiscovered resources, the historical, archaeological, and recreational significance of individual and collective resources, and the maritime landscape. On May 22, 2007, the boundary expansion working group presented this recommendation to the Sanctuary Advisory Council (SAC). The SAC responded by passing a resolution to expand the boundaries to the recommended area. Based on this recommendation, Senator Carl Levin introduced two sanctuary expansion bills into the U.S. Congress, but they were never brought to a vote.

In 2009, NOAA published an updated final management plan.³ In response to the Sanctuary Advisory Council's recommendation, the Thunder Bay NMS Final Management Plan (2009) contains a strategy (Strategy RP-1) to “Evaluate and assess a proposed expansion of the sanctuary to a 3,662-square-mile area from Alcona County to Presque Isle County, east to the international border with Canada to protect, manage, and interpret additional shipwrecks and other potential maritime heritage resources.” This action plan formed the basis for NOAA's current proposed action. The 3,662-square-mile area added to the area of the existing sanctuary would have resulted in a total sanctuary area of 4,110 square-miles.

³ http://sanctuaries.noaa.gov/management/mpr/tbnmsmp.pdf.

In April 2012, NOAA held three public scoping meetings: in Alpena, Harrisville and Rogers City, which were attended by 22, 6 and 14 people, respectively. In addition, NOAA received 21 letters and emails, with an additional seven comments submitted through the online portal. Most of the comments submitted were in support of boundary expansion. In fact, several people suggested a slightly larger area than 4,110 square-miles to protect an additional five historic shipwrecks. This larger area, for a total of 4,300 square miles, is presented in this proposed action.

II. Summary of the Proposed Regulations

The proposed regulatory action would expand the boundaries of the sanctuary, increasing the total area of the sanctuary from 448 square miles to approximately 4,300 square miles. The southern boundary of the sanctuary begins where the southern boundary of Alcona County intersects with the ordinary high water mark of Lake Huron and runs east until it intersects the U.S./Canada international boundary. The eastern boundary of the sanctuary follows the international boundary until it intersects with the 45°50′ N line of latitude. The northern boundary follows this line of latitude (45°50′ N) westward until it intersects the 84°20′ W line of longitude. The western boundary extends south along this line of longitude (84°20′ W) until it intersects the ordinary high water mark at Cordwood Point. From there, the western boundary follows the ordinary high water mark as defined by Part 325, Great Lakes Submerged Lands, of P.A. 451 (1994), as amended, until it intersects the southern boundary of Alcona County. The table in Appendix A of Thunder Bay National Marine Sanctuary regulations provides several coordinates used to define the boundaries of the sanctuary. A map of this expanded area can be found on our Web site at http://thunderbay.noaa.gov/management/expansion.html and in the draft environmental impact statement.

III. Summary of Proposed Changes to the Sanctuary Terms of Designation

Section 304(a)(4) of the NMSA requires that the terms of designation for national marine sanctuaries include: (1) The geographic area included within the Sanctuary; (2) the characteristics of the area that give it conservation, recreational, ecological, historical, research, educational, or esthetic value; and (3) the types of activities subject to regulation by NOAA to protect those characteristics. This section also specifies that the terms of the designation may be modified only by the same procedures by which the original designation is made.

To implement this action, NOAA is proposing to make changes to the TBNMS terms of designation, which were previously published in the Federal Register on June 22, 2000 (65 FR 39042). The changes would:

1. Modify Article II “Description of the Area” by changing the description of size of the sanctuary and describing the proposed new boundary for the sanctuary.

2. Modify Article III “Characteristics of the Area That Give It Particular Value” by changing the description of the nationally significant characteristics of the area included in the Sanctuary.

3. Modify Article V “Effect on Other Regulations, Leases, Permits, Licenses, and Rights” to reflect the new organization within NOAA.

The revised terms of designation are proposed to read as follows (new text in parentheses and deleted text in brackets):

(Proposed Revisions to the Terms of Designation for the Thunder Bay National Marine Sanctuary and Underwater Preserve)

Under the authority of the National Marine Sanctuaries Act, as amended (the “Act” or “NMSA”), 16 U.S.C. 1431 et seq., Thunder Bay and its surrounding waters offshore of Michigan, and the submerged lands under Thunder Bay and its surrounding waters, as described in Article II, are hereby designated as the Thunder Bay National Marine Sanctuary and Underwater Preserve for the purposes of providing long-term protection and management to the conservation, recreational, research, educational, and historical resources and qualities of the area. Section 304(a)(4) of the NMSA requires that the terms of designation include the geographic area included within the Sanctuary; the characteristics of the area that give it conservation, recreational, ecological, historical, research, educational, or esthetic value; and the types of activities that will be subject to regulation by the Secretary of Commerce to protect those characteristics. The terms of designation may be modified only by the procedures provided in Section 304(a) of the Act (the same procedures by which the original designation is made). Thus, the terms of designation serve as a constitution for the Sanctuary.

Article II. Description of the Area

The Thunder Bay National Marine Sanctuary and Underwater Preserve consists of an area of approximately (4,300) [448] square miles of waters of Lake Huron and the submerged lands thereunder, over, around, and under the underwater cultural resources in Thunder Bay. (The boundaries form a polygon by extending along the ordinary high water mark of the Michigan shoreline from approximately the northern and southern boundaries of Presque Isle and Alcona counties, respectively, cutting across the mouths of rivers and streams, and lakeward from those points along latitude lines to the U.S./Canada international boundary. A more detailed description of the boundary and a list of coordinates are set forth in the regulations for the sanctuary at 15 CFR part 922 subpart R.) [The boundary forms an approximately rectangular area by extending along the ordinary high water mark of the Michigan shoreline from the northern and southern boundaries of Alpena County, cutting across the mouths of rivers and streams, and lakeward from those points along latitude lines to longitude 83 degrees west. The coordinates of the boundary are set forth in Appendix A to the regulations.]

Article III. Characteristics of the Area That Give It Particular Value

Thunder Bay and its surrounding waters contain approximately (92 known) [116] (historic) shipwrecks spanning more than a century of Great Lakes maritime history. (Archival research indicates that as many as 100 additional historic shipwrecks are yet to be found.) Virtually every type of vessel used on open Great Lakes waters has been documented in the Thunder Bay region, linking Thunder Bay inextricably to Great Lakes commerce. Most of the Great Lakes trades had a national, and sometimes an international, significance, and resulted in uniquely-designed vessels. Although not all of Thunder Bay's shipwrecks have been identified, studies undertaken to date indicate strong evidence of the [Bay's] (region's) national historic significance. The sunken vessels reflect transitions in ship architecture and construction methods, from wooden sailboats to early iron-hulled steamers.

(We draw s) [S]everal major conclusions regarding Thunder Bay's shipwrecks [may be drawn] from research and analysis undertaken to date: they are representative of the composition of the Great Lakes merchant marine from 1840 to 1970; they provide information on the various phases of American westward expansion; they provide information on the growth of American extraction and use of natural resources; they illustrate various phases of American industrialization; one shipwreck (Isaac M. Scott) may be used to study and interpret a specific event (the Great Storm of 1913) that had strong repercussions regionally, nationally, and internationally; and they provide interpretive material for understanding American foreign intercontinental trade within the Great Lakes. (In addition to the submerged resources described above, there are other aspects of the region's maritime cultural landscape. A cultural landscape is a geographic area including both cultural and natural resources, coastal environments, human communities, and related scenery that is associated with historic events, activities or persons, or exhibits other cultural or aesthetic values. The Thunder Bay region is comprised of many shoreline features such as beached shipwrecks, lighthouses, aids to navigation, abandoned docks, working waterfronts and Native American sites. Also important are the intangible elements such as spiritual places and legends.) Thunder Bay was established as the first State of Michigan Underwater Preserve in 1981 to protect underwater cultural resources. Increasing public interest in underwater cultural resources underscores the importance of continued efforts to discover, explore, document, study and to provide long-term, comprehensive protection for the Bay's shipwrecks and other underwater cultural resources.

Article V. Effect on Other Regulations, Leases, Permits, Licenses, and Rights

Section 2. Other. If any valid regulation issued by any Federal, State, or local authority of competent jurisdiction, regardless of when issued, conflicts with a Sanctuary regulation, the regulation deemed by the Director, Office of (National Marine Sanctuaries) [Ocean and Coastal Resource Management], National Oceanic and Atmospheric Administration, or his or her designee, in consultation with the State of Michigan, to be more protective of Sanctuary resources shall govern. Pursuant to Section 304(c)(1) of this Act, 16 U.S.C. 1434(c)(1), no valid lease, permit, license, approval, or other authorization issued by any Federal, State, or local authority of competent jurisdiction, or any right of subsistence use or access, may be terminated by the Secretary of Commerce, or his or her designee, as a result of this designation, or as a result of any Sanctuary regulation, if such lease, permit, license, approval, or other authorization, or right of subsistence use or access was issued or in existence as of the effective date of this designation. However, the Secretary of Commerce, or his or her designee, in consultation with the State of Michigan, may regulate the exercise of such authorization or right consistent with the purposes for which the Sanctuary is designated.

[End of Terms of Designation.]

IV. Classification

A. National Environmental Policy Act

NOAA has prepared a draft environmental impact statement to evaluate the impacts of this proposed rulemaking. No significant adverse impacts to resources and the human environment are expected. Rather, long-term beneficial impacts are anticipated if the proposed action is implemented. Under NEPA (43 U.S.C. 4321 et seq.), an environmental assessment would have sufficed to analyze the impacts of this action since NOAA is proposing that no significant impacts are likely. However, the NMSA requires NOAA to publish a draft environmental impact statement (DEIS) regardless of the intensity of the impacts of the proposed action if NOAA is considering changing the terms of designation of a sanctuary (16 U.S.C. 1434 (a)(2)). Copies of the DEIS are available at the address and Web site listed in the ADDRESSES section of this proposed rule.

B. Executive Order 12866: Regulatory Impact

This proposed rule has been determined to be not significant within the meaning of Executive Order 12866.

C. Executive Order 13132: Federalism Assessment

NOAA has concluded this regulatory action does not have federalism implications sufficient to warrant preparation of a federalism assessment under Executive Order 13132.

D. Executive Order 13175: Consultation and Coordination With Indian Tribal Governments

Concurrent with the development of this proposed rule, NOAA invited the Chippewa Ottawa Resource Authority (CORA) to participate in government-to-government consultation. CORA gathers representatives from the Bay Mills Indian Community, Grand Traverse Band of Ottawa and Chippewa Indians, Little River Band of Ottawa Indians, Little Traverse Bay Bands of Odawa Indians, Sault Ste. Marie Tribe of Chippewa Indians under its mantle. NOAA plans to continue collaboration with the CORA and invite each individual tribe to government-to-government consultation. Consultation under E.O. 13175 is expected to be completed before the publication of the final rule.

E. Regulatory Flexibility Act

The Chief Counsel for Regulation of the Department of Commerce certified to the Chief Counsel for Advocacy of the Small Business Administration (SBA) that this proposed rule, if adopted, would not have a significant economic impact on a substantial number of small entities. The Regulatory Flexibility Act (5 U.S.C. 601(3)) defines “small business” as having the same meaning as “small business concern” under the Small Business Act. Pursuant to the Small Business Act, a small business concern is one which is independently owned and operated and which is not dominant in its field of operation (15 U.S.C. 632(a)(1)).

Small business concerns operating within the sanctuary include consumptive recreational charter businesses and non-consumptive recreational charter businesses. For the area subject to this proposed action, these include:

a. Consumptive Recreational Charter Businesses

A sports and recreation business is considered a “small” business if it has annual receipts not in excess of $7 million (13 CFR 121.201). Three consumptive recreational charter businesses (also known as commercial passenger fishing vessels or CPFVs) are active in the TBNMS.

b. Non-Consumptive Recreational Charter Businesses

Both sports and recreation businesses, and scenic and sightseeing transportation businesses are considered “small” businesses if they have annual receipts not in excess of $7 million (13 CFR 121.201). Over six non-consumptive recreational charter businesses take passengers to the TBNMS. These businesses primarily support non-consumptive diving, snorkeling and sightseeing activities.

It has been determined that the proposed prohibitions that would apply to the area under consideration for expansion would not interfere with the operation of existing charter diving and sightseeing small businesses because these regulations are compatible with sustainable tourism. In fact, protecting the shipwrecks may make them better recreational venues. Therefore, there will be no adverse economic impact to recreational charter diving and sightseeing small businesses operating in the proposed sanctuary expansion area.

Because NOAA is not proposing any fishing regulations as part of this action, there will be no adverse economic impact to recreational charter fishing small businesses operating in the proposed sanctuary expansion area. Other sanctuary regulations are not expected to affect charter fishing small businesses either.

According to a regional 2005 study on total visitor spending, the sanctuary benefits the local economy by partially contributing $92 million in sales, $35.8 million in personal income to residents, $51.3 million in value added and 1,704 jobs through increased tourism.

NOAA works with local officials to recruit new businesses, as well as to expand existing operations. Alpena Shipwreck Tours serves as an example of a new business recruited by NOAA and local officials. In the summer of 2011, Alpena Shipwreck Tours began glass-bottomed boat tours in the sanctuary. The company invested $800,000+ in the 65' glass-bottomed vessel, and has been successful thus far. NOAA has also worked with local groups to recruit and promote new outfitters, kayak tours, bike rentals, dive shops and charters.

In addition, the sanctuary's visitor center—Great Lakes Maritime Heritage Center—is a major tourist destination for the region, hosting approximately 60,000 visitors annually. This is significant because the population of the city of Alpena itself is only 11,000 people.

Because the impacts of this proposed rule on the recreational charter fishing businesses and the recreational charter diving business would have no impact or actually a beneficial economic impact, the Chief Counsel for Regulation certified to the Chief Counsel for Advocacy at SBA that this rulemaking would not have a significant economic impact on a substantial number of small entities.

F. Paperwork Reduction Act

This proposed rule contains a collection-of-information requirement subject to the Paperwork Reduction Act (PRA) which has been approved by the Office of Management and Budget (OMB) under control number 0648-0141. The public reporting burden for national marine sanctuary general permits is estimated to average 1 hour 30 minutes per response, including the time for reviewing instructions, searching existing data sources, gathering and maintaining the data needed, and completing and reviewing the collection of information.

Nationwide, NOAA issues approximately 200 national marine sanctuary general permits each year. Of this amount, TBNMS does not typically issue any sanctuary general permits. The permitting regulations for TBNMS specify that under certain conditions a person may conduct an otherwise prohibited activity if it is conducted in accordance with a state permit and the State Archaeologist certifies to NOAA that the activity will be conducted consistent with the Memorandum of Agreement. In the absence of certification from the State Archaeologist or if no State permit is required, a person may secure a sanctuary general permit directly from NOAA to conduct a prohibited activity if the activity is conducted in accordance with a Federal permit. Even though this proposed rule may result in a few additional permit applications, due to the overall larger area under management, this rulemaking would not appreciably change the average annual number of respondents on a national level or the reporting burden for this information requirement. Therefore, NOAA has determined that the proposed regulations do not necessitate a modification to its information collection approval by the Office of Management and Budget under the Paperwork Reduction Act.

Comments regarding this burden estimate, or any other aspect of this data collection, including suggestions for reducing the burden, may be sent to NOAA (see ADDRESSES) and to OMB by email to OIRA_submission@omb.eop.gov or fax to (202) 395-7285. Notwithstanding any other provision of law, no person is required to respond to, nor shall any person be subject to a penalty for failure to comply with, a collection of information subject to the requirements of the PRA, unless that collection of information displays a currently valid OMB Control Number.

G. National Historic Preservation Act

The National Historic Preservation Act of 1966 (NHPA; Pub. L. 89-665; 16 U.S.C. 470 et seq.) is intended to preserve historical and archaeological sites in the United States of America. The act created the National Register of Historic Places, the list of National Historic Landmarks, and the State Historic Preservation Offices. Section 106 of the NHPA requires Federal agencies to take into account the effects of their undertakings on historic properties, and afford the Advisory Council on Historic Preservation (ACHP) a reasonable opportunity to comment. The historic preservation review process mandated by Section 106 is outlined in regulations issued by ACHP (36 CFR part 800). The Michigan State Historic Preservation Office, which implements section 106 of the NHPA, is located in the Michigan State Housing Development Authority. NOAA has and continues to consult with the State Historic Preservation Officer on matters related to Section 106 of the NHPA. A programmatic agreement will be developed if the expansion of the sanctuary is finalized and if it is determined to be necessary.

V. Request for Comments

NOAA requests comments on this proposed rule for 60 days after publication of this notice.

List of Subjects in 15 CFR Part 922

Administrative practice and procedure, Coastal zone, Fishing gear, Marine resources, Natural resources, Penalties, Recreation and recreation areas, Wildlife.

(Federal Domestic Assistance Catalog Number 11.429 Marine Sanctuary Program)

Dated: June 6, 2013.
Holly A. Bamford,
Assistant Administrator, National Ocean Service National Oceanic and Atmospheric Administration.

Accordingly, for the reasons set forth above, NOAA proposes amending part 922, title 15 of the Code of Federal Regulations as follows:

PART 922 SUBPART R—THUNDER BAY NATIONAL MARINE SANCTUARY AND UNDERWATER PRESERVE

1. The authority citation for part 922 continues to read as follows:

Authority: 16 U.S.C. 1431 et seq.

2. Revise § 922.190 to read as follows:

§ 922.190 Boundary.

The Thunder Bay National Marine Sanctuary and Underwater Preserve (Sanctuary) consists of an area of approximately 4,300 square miles (11,137 square kilometers) of waters of Lake Huron and the submerged lands thereunder, over, around, and under the underwater cultural resources in Thunder Bay. The eastern boundary of the sanctuary begins at the intersection of the southern Alcona County boundary and the U.S./Canada international boundary (Point 1). The eastern boundary of the sactuary follows the international boundary passing through Points 2-6 until it intersects with the 45°50′ N line of latitude at Point 7. The northern boundary follows the line of latitude 45°50′ N westward until it intersects the 84°20′ W line of longitude at Point 8. The western boundary extends south along the 84°20′ W line of longitude towards Point 9 until it intersects the ordinary high water mark at Cordwood Point. From there, the western boundary follows the ordinary high water mark as defined by Part 325, Great Lakes Submerged Lands, of P.A. 451(1994), as amended, until it intersects the southern Alcona County boundary between Point 10 and Point 11. The table in Appendix A of this Subpart provides several useful coordinates along the boundary of the sanctuary.

3. Revise Appendix A to Subpart R of Part 922 to read as follows:

Appendix A to Subpart R of Part 922—Thunder Bay National Marine Sanctuary and Underwater Preserve Boundary Coordinates

[Based on North American Datum of 1983]

Point ID | Latitude (north) | Longitude (west)
1 | 44.512834 | −82.329519
2 | 44.858147 | −82.408717
3 | 45.208484 | −82.490596
4 | 45.335902 | −82.52064
5 | 45.771937 | −83.483974
6 | 45.773944 | −83.636867
7 | 45.833333 | −83.584432
8 | 45.833333 | −84.333333
9 | 45.662858 | −84.333333
10 | 44.511734 | −83.320169
11 | 44.512834 | −82.329519

[FR Doc. 2013-13908 Filed 6-13-13; 8:45 am]

BILLING CODE 3510-NK-P